DEPARTMENT OF LABOR

Employment and Training Administration

Proposed Collection; Comment Request

ACTION: Notice.

SUMMARY: The U.S. Department of Labor (USDOL), as part of its continuing effort to reduce paperwork and respondent burden, conducts a preclearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirements on respondents can be properly assessed. Currently, the Employment and Training Administration (ETA), Office of Workforce Security (OWS), is soliciting comments concerning a proposed new collection of survey data necessary to perform a benefit-cost analysis of the self-employment assistance (SEA) program.

A copy of the proposed information collection request (ICR) can be obtained by contacting the office listed below in the addresses section of this notice.

DATES: Written comments must be submitted to the office listed in the addresses section below on or before May 9, 2000.

ADDRESSES: Wayne Gordon, USDOL, 200 Constitution Avenue, N.W., Room S-4231, Washington, DC 20210, Phone: (202) 208-5915 x200 (this is not a toll-free number), fax: (202) 219-8506 (this is not a toll-free number), e-mail: wgordon@doleta.gov.

FOR FURTHER INFORMATION CONTACT: Wayne Gordon, USDOL, 200 Constitution Avenue, N.W., Room S-4231, Washington, DC 20210, Phone: (202) 208-5915 x200 (this is not a toll-free number), fax: (202) 219-8506 (this is not a toll-free number), e-mail: wgordon@doleta.gov.

SUPPLEMENTARY INFORMATION:

I. Background:

As part of its mandate under Section 906 of the Social Security Act to establish a continuing and comprehensive program of research to evaluate the unemployment compensation system, the USDOL, ETA, OWS, is conducting a study of benefits and costs of Unemployment Insurance (UI) SEA programs that are currently operating in a small number of States. This requires conducting a telephone survey to gather information regarding the programs' impacts on society, employers, participants, nonparticipants and the government sectors. As a complement to the benefit-cost analysis, DOL wishes to assemble an inventory of knowledge of current SEA programs to assist States wishing to implement a SEA program.

The study is following through on recommendations included in a report to Congress on implementation of the prior Unemployment Insurance (UI) Self-Employment Assistance Demonstration. That report, which recommended that the program be made permanent, identified a need for follow up on program participants and the desirability of benefit-cost analysis.

In accomplishing this overall purpose, the study will do the following: (1) Determine the net benefits of SEA programs; (2) obtain the necessary SESA and SEA participant cost information associated with these programs; (3) perform an analysis of program-to-program variation in service provision and other program variables; (4) develop a complete demographic profile of current SEA participants and identify the impacts of this relatively new reemployment strategy on labor market outcomes for these participants with regard to their total employment in wage and salary and self-employment (weeks worked), total earnings, and any subsequent claims for unemployment benefits; and (5) inventory the different administrative configurations and service packages offered within the participating States to provide information to other participating States on cost-effective strategies and to assist States wishing to implement a SEA program.

II. Current Actions

To examine these issues, ETA is planning to collect survey data from random samples of present and past SEA participants in three designated States. The survey will collect data unavailable from administrative records. These data include detailed information on background characteristics of sample members, including characteristics of their pre-layoff jobs; information on their employment and earnings and job characteristics following receipt of UI; and information on their participation in any reemployment services, more specifically, the SEA program.

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

Type of Review: New.

Agency: U.S. DOL, ETA, Office of Workforce Security.

Title: Benefit-cost Analysis of the Self-Employment Assistance program.

Agency Number: 1205.

Affected Public: Present and past participants in (SEA) programs in Maine, New York and New Jersey.

Cite/reference | Total respondents | Frequency | Total responses | Average time per response (minutes) | Burden (hours)
Participant survey | 1200 | One time | 1200 | 10 | 200 | Totals |  |  | 1200 |  | 200

Total Burden Cost: $35,000.00.

Comments submitted in response to this comment request will be summarized and/or included in the request for Office of Management and Budget approval of the information collection request; they will also become a matter of public record.

Dated: March 6, 2000.
Grace A. Kilbane,
Administrator, Office of Workforce Security.

[FR Doc. 00-5843 Filed 3-9-00; 8:45 am]

BILLING CODE 4510-30-P